FEDERAL ELECTION COMMISSION

Sunshine Act Meeting

Agency: Federal Election Commission.

* * * * *

Date & Time: Tuesday, May 14, 2002 at 10 a.m.

Place: 999 E Street, NW., Washington, DC.

STATUS: This meeting will be closed to the public.

Items to Be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Date & Time: Thursday, May 16, 2002 at 10 a.m.

Place: 999 E Street, NW., Washington, DC (Ninth Floor)

STATUS: This meeting will be open to the public.

Items to Be Discussed:

Correction and Approval of Minutes.

Final Audit Report of Bauer for President 2000, Inc.

Draft Advisory Opinion 2002-06: Green Party of California by Michael S. Wyman, Treasurer.

Person to Contact for Information: Mr. Ron Harris, Press Officer Telephone: (202) 694-1220.

Mary W. Dove,
Secretary of the Commission.

[FR Doc. 02-11711 Filed 5-7-02; 10:54 am]

BILLING CODE 6715-01-M